DEPARTMENT OF LABOR

Employment and Training Administration

Agency Information Collection Activities; Comment Request; Application for Permanent Employment Certification, Extension With Nonsubstantive Changes of Currently Approved Collection

ACTION: Notice.

SUMMARY: The Department of Labor (DOL), Employment and Training Administration (ETA), is soliciting comments concerning a proposed extension for the authority to conduct the information collection request (ICR) titled “Application for Permanent Employment Certification.” This comment request is part of continuing Departmental efforts to reduce paperwork and respondent burden in accordance with the Paperwork Reduction Act of 1995 (PRA).

DATES: Consideration will be given to all written comments received by October 27, 2017.

ADDRESSES: A copy of this ICR with applicable supporting documentation, including a description of the likely respondents, proposed frequency of response, and estimated total burden may be obtained free of charge by contacting William W. Thompson II, Administrator, Office of Foreign Labor Certification, telephone number: 202-513-7350 (this is not a toll-free number). Individuals with hearing or speech impairments may access the telephone number above via TTY by calling the toll-free Federal Information Relay Service at 1-877-889-5627 (TTY/TDD). Fax: 202-513-7395 or by email at ETA.OFLC.Forms@dol.gov subject line: ETA-9089.

Submit written comments about, or requests for a copy of, this ICR by mail or courier to the U.S. Department of Labor, Employment and Training Administration, Office of Foreign Labor Certification, Box #12-200, 200 Constitution Avenue NW., Washington, DC 20210; by email: ETA.OFLC.Forms@dol.gov subject line: ETA-9089; or by Fax: 202-513-7395.

SUPPLEMENTARY INFORMATION: The DOL, as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed.

Section 212(a)(5)(A) of the Immigration and Nationality Act (INA), 8 U.S.C. 1182(a)(5)(A), requires the Secretary of Labor to certify that any alien seeking to enter the United States for the purpose of performing skilled or unskilled labor will not adversely affect the wages and working conditions of U.S. workers similarly employed, and that there are not sufficient U.S. workers able, willing, and qualified to perform such labor. DOL uses Form ETA-9089 to collect information about a sponsoring employer's job offer, and about a foreign national's education and work history, necessary to determine whether the admission of that foreign national meets the requirements for certification under Section 212(a)(5)(A). Employers seeking to sponsor workers as sheepherders or in Schedule A occupations file Form ETA-9089 directly with the Department of Homeland Security (DHS). DHS also accepts the ETA-9089 in place of the ETA-750 in its National Interest Waiver program.

This information collection is authorized by INA Sections 212(a)(5)(A), 203(b)(2), and 203(b)(3).

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention ETA, OMB Control No. 1205-0451.

Submitted comments will also be a matter of public record for this ICR and posted on the Internet without redaction. The DOL encourages commenters not to include personally identifiable information, confidential business data, or other sensitive statements/information in any comments.

The DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Type of Review: Extension with nonsubstantive changes.

Title of Collection: Application for Permanent Employment Certification.

Form: Form ETA-9089.

OMB Control Number: 1205-0451.

Affected Public: Individuals or households; businesses or other for-profit entities; not-for-profit institutions; farms; and Federal, state, local or tribal governments.

Estimated Number of Respondents: 113,304.

Frequency: On occasion.

Total Estimated Annual Responses: 113,304.

Estimated Average Time per Response: 2 hours.

Estimated Total Annual Burden Hours: 227,118 hours.

Total Estimated Annual Other Cost Burden: $18,769,032.

Authority: 44 U.S.C. 3506(c)(2)(A).

Byron Zuidema,
Deputy Assistant Secretary for Employment and Training, Labor.

[FR Doc. 2017-18135 Filed 8-25-17; 8:45 am]

BILLING CODE 4510-FP-P